FEDERAL COMMUNICATIONS COMMISSION

[Report No. 2699]

Petitions for Reconsideration of Action in Rulemaking Proceeding

March 30, 2005.

Petitions for Reconsideration have been filed in the Commission's Rulemaking proceedings listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to these petitions must be filed by April 28, 2005. See Section 1.4(b)(1) of the Commission's rules (47 CFR 1.4(b)(1)). Replies to an opposition must be filed within 10 days after the time for filing oppositions have expired.

Subject: In the Matter of Amendment of Part 2 of the Commission's Rules to Allocate Spectrum Below 3 GHz for Mobile and Fixed Services to Support the Introduction of New Advanced Wireless Services, Including Third Generation Wireless Systems (ET Docket No. 00-258).

Amendment to Parts 1, 2, 27 and 90 of the Commission's Rules to License Services in the 216-220 MHz, 1390-1395 MHz, 1427-1429 MHz, 1429-1432 MHz, 1432-1435 MHz, 1670-1675 MHz, and 2385-2390 MHz Government Transfer Bands (WT Docket No. 02-8).

Mobile Satellite Service (ET Docket No. 95-18).

Policy & Service Rules for 2 GHz MSS (IB Docket No. 99-81).

Number of Petitions Filed: 2.

Marlene H. Dortch,
Secretary.

[FR Doc. 05-7178 Filed 4-12-05; 8:45 am]

BILLING CODE 6712-01-M